DEPARTMENT OF HOMELAND SECURITY

Coast Guard

33 CFR Part 165

[CGD13-04-043]

RIN 1625-AA00

Security and Safety Zone; Protection of Large Passenger Vessels, Portland, OR

AGENCY: Coast Guard, DHS.

ACTION: Final rule; notice of suspension of enforcement.

SUMMARY: The Captain of the Port, Portland, OR, will suspend enforcement of the Large Passenger Vessel Security and Safety Zones that were created by a final rule published in the Federal Register on September 12, 2003. The zones provide for the security and safety of large passenger vessels in the navigable waters of Portland, OR, and adjacent waters. Enforcement of these security and safety zones will be suspended until further notice.

DATES: Enforcement of 33 CFR 165.1318 will be suspended commencing December 8, 2004.

FOR FURTHER INFORMATION CONTACT: LTjg B. Audirsch, c/o Captain of the Port Portland, OR 6767 North Basin Avenue, Portland, OR 97217 at (503) 247-4015 to obtain information concerning enforcement of this rule.

SUPPLEMENTARY INFORMATION: On September 12, 2003, the Coast Guard published a final rule (68 FR 53677) establishing regulations in 33 CFR 165.1318 for the security and safety of large passenger vessels in the navigable waters of Portland, OR, and adjacent waters, of Oregon and Washington. These security and safety zones provide for the regulation of vessel traffic in the vicinity of certain large passenger vessels (as defined in 33 CFR 165.1318(b)) and exclude persons and vessels from the immediate vicinity of these large passenger vessels. Entry into these zones is prohibited unless otherwise exempted or excluded under 33 CFR 165.1318 or unless authorized by the Captain of the Port or his designee. The Captain of the Port, Portland, OR, will suspend enforcement of the Large Passenger Vessel Safety and Security Zones established in 33 CFR 165.1318 on December 8, 2004.

Dated: December 8, 2004.
Paul D. Jewell,
Captain, U.S. Coast Guard, Captain of the Port, Portland, OR.

[FR Doc. 04-27897 Filed 12-20-04; 8:45 am]

BILLING CODE 4910-15-P